Title 3—

The President

Proclamation 7764 of March 25, 2004

Greek Independence Day: A National Day of Celebration of Greek and American Democracy, 2004

By the President of the United States of America

A Proclamation

The love of liberty that helped shape our Constitution has deep roots in the spirit of ancient Greece. As we observe Greek Independence Day, we celebrate the timeless democratic principles that all freedom-loving people cherish.

To continue to strengthen and spread liberty around the world, the values and traditions of democracy must be passed on to each new generation. In 1821, our Nation supported the cause of Greek independence when the brave men and women of Greece began their long struggle for liberty. This struggle continued through the end of World War II. On the anniversary of the Greek Declaration of Independence, we honor the courage of these proud patriots and celebrate our nations' shared commitment to democracy.

Today, Greece and America are strong allies and strategic partners in the great struggles for liberty and the global war on terror. We are working together to bring a fair and lasting settlement to Cyprus. We look forward to a future of continued friendship and collaboration between our two great nations as we advance peace and democracy in the world.

In celebrating Greek Independence Day, we are also grateful for the many ways Greek Americans have enriched our communities and strengthened our country.

NOW, THEREFORE, I, GEORGE W. BUSH, President of the United States of America, by virtue of the authority vested in me by the Constitution and laws of the United States, do hereby proclaim March 25, 2004, as Greek Independence Day: A National Day of Celebration of Greek and American Democracy. I call upon all Americans to observe this day with appropriate ceremonies and activities.

IN WITNESS WHEREOF, I have hereunto set my hand this twenty-fifth day of March, in the year of our Lord two thousand four, and of the Independence of the United States of America the two hundred and twenty-eighth.

B

[FR Doc. 04-7162

Filed 3-26-04; 10:38 am]

Billing code 3195-01-P